DEPARTMENT OF HEALTH AND HUMAN SERVICES

Administration for Community Living

Agency Information Collection Activities; Submission for OMB Review; Comment Request; Evaluation of the Elderly Nutritional Services Program

AGENCY: Administration for Community Living, HHS.

ACTION: Notice.

SUMMARY: The Administration for Community Living (formerly the Administration on Aging (AoA)) is announcing that the continuation of collection of information listed below has been submitted to the Office of Management and Budget (OMB) for review and clearance under the Paperwork Reduction Act of 1995.

DATES: Submit written comments on the collection of information by November 21, 2016.

ADDRESSES: Submit written comments on the collection of information by fax 202.395.6974 to the OMB Desk Officer for ACL, Office of Information and Regulatory Affairs, OMB.

FOR FURTHER INFORMATION CONTACT: Susan Jenkins, 202.795.7369.

SUPPLEMENTARY INFORMATION: In compliance with 44 U.S.C. 3507, the Administration for Community Living (Formerly the Administration for Aging) has submitted the following proposed collection of information to OMB for review and clearance. The data collection associated with the Evaluation of the Elderly Nutrition Services Program (ENSP) is necessary to meet three broad objectives of ACL: (1) To provide information to support program planning, including an analysis of program processes, (2) to develop information about program efficiency and cost issues, and (3) to assess program effectiveness, as measured by the program's effects on a variety of important outcomes, including nutrient adequacy, socialization opportunities, health outcomes, and, ultimately, helping elderly people avoid institutionalization. The renewal is to complete the data collection related to objective 3.

In response to the 60-day Federal Register notice related to this proposed data collection and published on July 19, 2016, no relevant comments were was received. The proposed data collection tool may be found on the ACL Web site: http://www.aoa.acl.gov/Program_Results/Program_survey.aspx.

The total burden estimate for the remaining data collection is: 192 hours.

Dated: October 14, 2016.
Edwin L. Walker,
Acting Assistant Secretary for Aging.

[FR Doc. 2016-25414 Filed 10-19-16; 8:45 am]

BILLING CODE 4154-01-P